GENERAL SERVICES ADMINISTRATION

41 CFR Part 300-80

[FTR Amendment 2010-03; FTR Case 2010-304; Docket 2010-0016; Sequence 1]

RIN 3090-ZA01

Federal Travel Regulation (FTR); Relocation Expenses Test Programs

AGENCY: Office of Governmentwide Policy, General Services Administration (GSA).

ACTION: Final rule.

SUMMARY: This final rule updates the Federal Travel Regulation (FTR) to reflect statutory changes that extended the authority for relocation expenses test programs for Federal employees, made by the passage of Public Law 111-112 on November 30, 2009.

DATES: Effective Date: This final rule is effective September 24, 2010.

FOR FURTHER INFORMATION CONTACT: The Regulatory Secretariat (MVCB), Room 4035, GS Building, Washington, DC 20405, (202) 501-4755, for information pertaining to status or publication schedules. For clarification of content, contact Mr. Henry Maury, Office of Governmentwide Policy (M), Office of Travel, Transportation and Asset Management (MT), General Services Administration at (202) 208-7928 or e-mail at henry.maury@gsa.gov. Please cite FTR Amendment 2010-03; FTR case 2010-304.

SUPPLEMENTARY INFORMATION:

A. Background

On October 19, 1998, the President signed into law the Travel and Transportation Reform Act of 1998 (Pub. L. 105-264). Subsection 5(b) of Public Law 105-264, codified at 5 U.S.C. 5739, permits the Administrator of General Services to authorize Federal agencies to test new and innovative methods of reimbursing relocation expenses without seeking authorizing legislation or a waiver of regulations. This statutory provision is implemented in part 300-80 the Federal Travel Regulation (FTR) (41 CFR part 300-80), “Relocation Expenses Test Programs.” Public Law 109-325 extended the test program authority through October 19, 2009. Public Law 111-112, enacted on November 30, 2009, extended the test program authority indefinitely.

B. Changes to the Current FTR

This final rule:

• Revises section 300-80.4 to update the maximum number of test programs that may be simultaneously running from 10 to 12;

• Revises section 300-80.6 to clarify test programs are limited to making payments in lieu of the relocation reimbursements contained in 5 U.S.C. chapter 57, subchapter II;

• Revises section 300-80.7 to update the duration of test programs and possible extensions from 24 months to four years;

• Redesignates current section 300-80.8 as section 300-80.9 and removes current section 300-80.9 because it is no longer valid;

• Adds new section 300-80.8 to add instructions for agencies wishing to apply for a test program extension; and

• Revises newly designated section 300-80.9 to clarify the reporting requirements for agencies conducting test programs.

C. Executive Order 12866

This regulation is excepted from the definition of “regulation” or “rule” under Section 3(d)(3) of Executive Order 12866, Regulatory Planning and Review, dated September 30, 1993 and, therefore, was not subject to review under Section 6(b) of that Executive Order.

D. Regulatory Flexibility Act

This final rule will not have a significant economic impact on a substantial number of small entities within the meaning of the Regulatory Flexibility Act, 5 U.S.C. 601, et seq., because the revisions are not considered substantive. This final rule is also exempt from the Regulatory Flexibility Act per 5 U.S.C. 553 (a)(2) because it applies to agency management. However, this final rule is being published to provide transparency in the promulgation of federal policies.

E. Paperwork Reduction Act

The Paperwork Reduction Act does not apply because the changes to the Federal Travel Regulation do not impose recordkeeping or information collection requirements, or the collection of information from offerors, contractors, or members of the public that require the approval of the Office of Management and Budget under 44 U.S.C. 3501, et seq.

F. Small Business Regulatory Enforcement Fairness Act

This final rule is also exempt from congressional review prescribed under 5 U.S.C. 801 since it relates solely to agency management and personnel.

List of Subjects in 41 CFR Part 300-80

Government employees, Reporting and recordkeeping requirements, Travel and transportation expenses.

Dated: July 16, 2010.
Martha Johnson,
Administrator of General Services.

For the reasons set forth in the preamble, under 5 U.S.C. 5701-5739, GSA amends 41 CFR part 300-80 as set forth below:

PART 300-80—RELOCATION EXPENSES TEST PROGRAMS

1. The authority citation for 41 CFR part 300-80 continues to read as follows:

Authority: 5 U.S.C. 5707, 5738, and 5739.

§ 300-80.4 [Amended]

2. Amend § 300-80.4 by removing “10” and adding “12” in its place.

§ 300-80.6 [Amended]

3. Amend § 300.80-6 by—

a. Removing the word “None.”; and

b. Removing “Chapter 302 of this title.” and adding “5 U.S.C. chapter 57, subchapter II.” in its place.

4. Revise § 300-80.7 to read as follows:

§ 300-80.7 How long is the duration of test programs?

The duration of a test program is up to four years from the date of authorization unless terminated prior to that time by the Administrator of General Services. The agency conducting a test program may also terminate the test program at any time by providing written notice of the termination to the Administrator of General Services. The Administrator of General Services may grant test program extensions of up to an additional four years (see § 300-80.8).

§ 300-80.9 [Removed]

5. Remove § 300-80.9.

§ 300-80.8 [Redesignated as § 300-80.9]

6. Redesignate § 300-80.8 as § 300-80.9.

7. Add a new § 300-80.8 to read as follows:

§ 300-80.8 What must we do to apply for a test program extension?

The head of the agency or designee must submit a request to extend the test program to the Administrator of General Services (Attention: MTT), 1800 F Street, NW., Washington, DC 20405, not later than 120 days prior to the expiration of the test period. The request for extension must contain the test program results to that date and clearly enumerate the benefits, qualitatively or quantitatively or both, of granting a test program extension and must specify the duration of time for which an extension is requested.

8. Amend newly redesignated § 300-80.9 by—

a. Removing the introductory text;

b. Removing in paragraph (a), “an approved test program” and adding “any test program approved or extended” in its place; and

c. Adding new paragraph (c) to read as follows:

§ 300-80.9 What reports are required for a test program?

* * * * *

(c) All reports must include quantitative or qualitative assessments, or both, clearly evaluating the results of the test program and enumerating benefits and costs.

[FR Doc. 2010-23887 Filed 9-23-10; 8:45 am]

BILLING CODE 6820-14-P